NUCLEAR REGULATORY COMMISSION

[Docket No. NRC-2012-0009]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. chapter 35). The NRC hereby informs potential respondents that an agency may not conduct or sponsor, and that a person is not required to respond to, a collection of information unless it displays a currently valid OMB control number. The NRC published a Federal Register Notice with a 60-day comment period on this information collection on February 2, 2012 (77 FR 5279).

1. Type of submission, new, revision, or extension: Extension.

2. The title of the information collection: 10 CFR part 62, “Criteria and Procedures for Emergency Access to Non-Federal and Regional Low-Level Waste Disposal Facilities.”

3. Current OMB approval number: 3150-0143.

4. The form number if applicable: N/A.

5. How often the collection is required: The collection would only be required upon application for a Commission emergency access determination when access to a non-Federal or regional low-level waste disposal facility is denied, which results in an immediate public health and safety and/or common defense and security concern.

6. Who will be required or asked to report: Generators of low-level radioactive waste, or the Governor of a State on behalf of any generator or generators located in his or her State who are denied access to a non-Federal or regional low-level radioactive wastes and who wish to request emergency access for disposal at a non-Federal or regional LLW disposal facility pursuant to 10 CFR part 62.

7. An estimate of the number of annual responses: 1.

8. The estimated number of annual respondents: 1.

9. An estimate of the total number of hours needed annually to complete the requirement or request: 233.

10. Abstract: 10 CFR part 62 sets out the information which must be provided to the NRC by any low-level waste generator or Governor of a State on behalf of generators seeking emergency access to an operating low-level waste disposal facility. The information is required to allow the NRC to determine if denial of disposal constitutes a serious and immediate threat to public health and safety or common defense and security. 10 CFR part 62 also provides that the Commission may grant an exemption from the requirements in this Part upon application of an interested person or upon its own initiative.

The public may examine and have copied for a fee, publicly available documents, including the final supporting statement, at the NRC's Public Document Room, Room O-1F21, One White Flint North, 11555 Rockville Pike, Rockville, Maryland 20852. OMB clearance requests are available at the NRC's Web site: http://www.nrc.gov/public-involve/doc-comment/omb/index.html. The document will be available on the NRC home page site for 60 days after the signature date of this notice.

Comments and questions should be directed to the OMB reviewer listed below by June 11, 2012. Comments received after this date will be considered if it is practical to do so, but assurance of consideration cannot be given to comments received after this date. Chad Whiteman, Desk Officer, Office of Information and Regulatory Affairs (3150-0143), NEOB-10202, Office of Management and Budget, Washington, DC 20503.

Comments can also be emailed to Chad_S_Whiteman@omb.eop.gov or submitted by telephone at 202 395-4718.

The NRC Clearance Officer is Tremaine Donnell, 301 415-6258.

Dated at Rockville, Maryland, this 3th day of May, 2012.
For the Nuclear Regulatory Commission.
Tremaine Donnell,
NRC Clearance Officer, Office of Information Services.

[FR Doc. 2012-11240 Filed 5-9-12; 8:45 am]

BILLING CODE 7590-01-P